DEPARTMENT OF HOMELAND SECURITY

Federal Emergency Management Agency

44 CFR Part 67

[Docket ID FEMA-2008-0020; Internal Agency Docket No. FEMA-B-1040]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before August 17, 2009.

ADDRESSES: The corresponding preliminary Flood Insurance Rate Map (FIRM) for the proposed BFEs for each community are available for inspection at the community's map repository. The respective addresses are listed in the table below.

You may submit comments, identified by Docket No. FEMA-B-1040, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
City of Burnside, Kentucky
Kentucky | City of Burnside | Lake Cumberland | Entire shoreline | None | +749
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Burnside
Maps are available for inspection at 7929 South Highway 27, Burnside, KY 42519.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Fairfield County, Connecticut, and Incorporated Areas
East Swamp Brook | Entire reach within City of Danbury | None | +293 | City of Danbury.
Farmill River | Entire reach within Town of Stratford | None | +14 | Town of Stratford.
| Entire reach within Town of Stratford | None | +70
Five Mile River | At upstream side of Old Rock Lane | +141 | +139 | City of Norwalk.
| Approximately 750 feet upstream of Old Rock Lane | +142 | +139
Horse Tavern Brook | At upstream side of Park Avenue | +129 | +132 | City of Bridgeport.
| Approximately 670 feet upstream of Park Avenue | +131 | +132
| Approximately 1,580 feet upstream of Old Town Road | None | +239
| Approximately 1,820 feet upstream of Old Town Road | None | +240
Horse Tavern Brook | Approximately 470 feet upstream of Old Town Road | +236 | +238 | Town of Trumbull.
| Approximately 1,070 feet upstream of Old Town Road | +238 | +239
Housatonic River | Approximately 2,775 feet upstream of Merritt Parkway | +13 | +14 | Town of Stratford.
| Approximately 3,650 feet upstream of Merritt Parkway | +13 | +14
Housatonic River | At confluence of Halfway River | None | +108 | Town of Newtown.
| Approximately 15,800 feet upstream of confluence of Halfway River | None | +108
Laurel Brook | Approximately 320 feet upstream of confluence with Rippowam River (Upper Reach) | +244 | +245 | City of Stamford.
| Approximately 40 feet upstream of Laurel Road | +279 | +274
Mianus River | At upstream side of Valley Road | +72 | +73 | Town of Greenwich.
| Approximately 270 feet upstream of Valley Road | +72 | +73
Noroton River | Approximately 1,860 feet downstream of State Route 15 | None | +117 | Town of Darien, City of Stamford.
| Approximately 1,040 feet downstream of State Route 15 | None | +117
Norwalk River | Entire reach within Town of Weston | None | +302 | Town of Weston.
Norwalk River | Approximately 2,740 feet upstream of U.S. Route 7 | None | +367 | Town of Ridgefield.
| Approximately 3,500 feet upstream of U.S. Route 7 | None | +373
Rippowam River (Upper Reach) | Approximately 290 feet downstream of Cascade Road | +227 | +228 | Town of New Canaan.
| Approximately 3,360 feet upstream of Cascade Road | +242 | +243
Rooster River | At upstream side of Railroad | +16 | +15 | Town of Fairfield.
| At downstream side of Brooklawn Avenue | +20 | +19
Terehaute Brook | Entire reach within City of Danbury | None | +367 | City of Danbury.
| Entire reach within City of Danbury | None | +373
Tributary O at Intervale Road | Entire reach within Town of Stratford | None | +140 | Town of Stratford.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Bridgeport
Maps are available for inspection at the City of Bridgeport Zoning Office, 45 Lyon Terrace, Bridgeport, CT.
City of Danbury
Maps are available for inspection at Danbury City Hall, Engineering Department, 155 Deer Hill Avenue, Danbury, CT.
City of Norwalk
Maps are available for inspection at Norwalk City Hall, Planning and Zoning Department, 125 East Avenue, Room 223, Norwalk, CT.
City of Stamford
Maps are available for inspection at the City of Stamford Environmental Protection Board, 888 Washington Boulevard, 7th Floor, Stamford, CT.
Town of Darien
Maps are available for inspection at the Darien Town Hall, 2 Renshaw Road, Darien, CT.
Town of Fairfield
Maps are available for inspection at the Town of Fairfield Engineering Department, Sullivan Independence Hall, 725 Old Post Road, Fairfield, CT.
Town of Greenwich
Maps are available for inspection at the Greenwich Town Hall, Planning and Zoning Department, 101 Field Point Road, Greenwich, CT.
Town of New Canaan
Maps are available for inspection at the New Canaan Town Hall, Office of the Town Clerk, 77 Main Street, New Canaan, CT.
Town of Newtown
Maps are available for inspection at the Town of Newtown Land Use Agency, 31 Pecks Lane, Newtown, CT.
Town of Ridgefield
Maps are available for inspection at the Ridgefield Town Hall Annex, Planning and Zoning Department, 66 Prospect Street, Ridgefield, CT.
Town of Stratford
Maps are available for inspection at the Stratford Town Hall, Planning and Zoning Department, 2725 Main Street, Stratford, CT.
Town of Trumbull
Maps are available for inspection at the Trumbull Town Hall, Engineering Department, 5866 Main Street, Trumbull, CT.
Town of Weston
Maps are available for inspection at the Weston Town Hall, Office of the Town Clerk, 56 Norfield Road, Weston, CT.
Clinton County, Kentucky, and Incorporated Areas
Cumberland River | Approximately 2,300 feet downstream of the confluence with Tearcoat Creek | None | +568 | Unincorporated Areas of Clinton County.
| Approximately 2,300 feet upstream of the confluence with Millers Creek | None | +571
Dale Hollow Lake (Wolf River) | At the confluence with Wolf River | None | +663 | Unincorporated Areas of Clinton County.
| Approximately 1,800 feet upstream of the confluence with Spring Creek | None | +663
Lake Cumberland | Just upstream of Wolf Creek Dam | None | +760 | Unincorporated Areas of Clinton County.
| At confluence with Otter Creek | None | +760
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Clinton County
Maps are available for inspection at 100 South Cross Street, Albany, KY 42602.
Russell County, Kentucky, and Incorporated Areas
Cumberland River | Approximately 3,700 feet downstream of the confluence with Lester Creek | None | +565 | Unincorporated Areas of Russell County.
| Just downstream of Wolf Creek Dam | None | +577
Lake Cumberland | Just upstream of Wolf Creek Dam | +750 | +760 | Unincorporated Areas of Russell County, City of Jamestown.
| Just downstream of the confluence with Thomas Branch | +750 | +760
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Jamestown
Maps are available for inspection at 202 Monument Square, Jamestown, KY 42629.
Unincorporated Areas of Russell County
Maps are available for inspection at One Public Square, Jamestown, KY 42629.
Allen Parish, Louisiana, and Incorporated Areas
Beaver Creek | Approximately 7,218 feet downstream of 16th Street | None | +117 | City of Oakdale.
| Approximately 575 feet downstream of 16th Street | None | +119
Bunch Creek | Intersection of Martin Tram Road and Bunchy Creek | None | +37 | Unincorporated Areas of Allen Parish.
| Approximately 3,097 feet upstream of Route 190 | None | +38
Calcasieu River | Approximately 341 feet upstream of unnamed creek | None | +106 | City of Oakdale.
| Intersection of unnamed creek and Union Pacific Railroad | None | +107
Gilley Gully | Approximately 1,539 feet downstream of Martin Tram Road | None | +35 | Unincorporated Areas of Allen Parish.
| Approximately 4,613 feet upstream of Martin Tram Road | None | +36
Whisky Chitto Creek | Approximately 10,369 feet upstream of confluence with Calcasieu River and Whisky Chitto Creek | None | +41 | Unincorporated Areas of Allen Parish.
| Approximately 6,544 feet upstream of confluence with Calcasieu River and Whisky Chitto Creek | None | +41
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Oakdale
Maps are available for inspection at 333 East 6th Avenue, Oakdale, LA 71463.
Unincorporated Areas of Allen Parish
Maps are available for inspection at the Allen Parish Police Jury Office, 602 Court Street, Oberlin, LA 70655.
St. Landry Parish, Louisiana, and Incorporated Areas
Bayou Belleview | Approximately 330 feet downstream of George Street | None | +68 | Unincorporated Areas of St. Landry Parish.
| Approximately 125 feet upstream of Gulino Street | None | +70
Bayou Tesson | Approximately 450 feet upstream of Caddo Street | None | +68 | Unincorporated Areas of St. Landry Parish, City of Opelousas.
| Approximately 100 feet upstream of Park Street | None | +70
Flooding Effects of Unnamed Canal/Ditch | Approximately 350 feet East of Palm Street | None | +25 | Town of Port Barre.
| Approximately 1,800 feet West of State Highway 741 and 25 Feet North of Highway 190 | None | +25
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Opelousas
Maps are available for inspection at 318 North Court Street, Opelousas, LA 70570.
Town of Port Barre
Maps are available for inspection at P.O. BOX 219, 504 Saizan Avenue, Port Barre, LA 70577.
Unincorporated Areas of St. Landry Parish
Maps are available for inspection at P.O. Drawer 1550, 308 West Bloch Street, Opelousas, LA 70571.
St. Martin Parish, Louisiana, and Incorporated Areas
Bayou Peyronnet | 2.27 miles upstream of the confluence with Bayou Berard | None | *13 | Unincorporated Areas of St. Martin Parish.
| 2.08 miles upstream of the confluence with Bayou Berard | None | +13
Bayou Teche | 1,900 feet upstream of Smede Highway | None | +15 | Unincorporated Areas of St. Martin Parish.
| 2.08 miles upstream of Bridge Street | None | +21
WABPL Borrow Pit (Above Henderson) | 1,000 feet downstream of Potato Shed Road | +14 | +16 | Unincorporated Areas of St. Martin Parish.
| 1.25 miles upstream of Potato Shed Road | +14 | +17
WABPL Borrow Pit (Below Henderson) | 2,500 feet upstream of the confluence with Berard Canal | +14 | +12 | Unincorporated Areas of St. Martin Parish.
| 4,500 feet upstream of the confluence with Berard Canal | +14 | +12
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of St. Martin Parish
Maps are available for inspection at 303 West Port Street, St. Martinsville, LA 70582.
Terrebonne Parish, Louisiana, and Incorporated Areas
Bayou Sauveur | At the intersection of Bayou Sauveur and Savanne Road | None | +5 | Unincorporated Areas of Terrebonne Parish.
| At the intersection of Bayou Sauveur and Isle of Cuba Road | None | +10
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Terrebonne Parish
Maps are available for inspection at P.O. Box 6097, 8026 Main Street/HWY 24, RM 40, Houma, LA 70361.
Madison County, Ohio, and Incorporated Areas
Little Darby Creek | 30,610 feet upstream from confluence of Little Darby Creek and Darby Creek | None | +881 | Village of West Jefferson.
| 38,850 feet upstream from confluence of Little Darby Creek and Darby Creek | None | +894
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Village of West Jefferson
Maps are available for inspection at 28 East Main Street, West Jefferson, OH 43612.
Nelson County, Virginia, and Incorporated Areas
Davis Creek | Approximately 983 feet upstream from the confluence with Rockfish River | None | +538 | Unincorporated Areas of Nelson County.
| Approximately 150 feet downstream from Perry Lane | None | +862
East Branch Hat Creek | Approximately 215 feet upstream from the confluence with Hat Creek | None | +674 | Unincorporated Areas of Nelson County.
| At the intersection of Shaeffers Hollow Lane | None | +802
Hat Creek | Approximately 730 feet upstream from the confluence with Tye River | None | +648 | Unincorporated Areas of Nelson County.
| Approximately 610 feet downstream from East Branch Loop | None | +790
Muddy Creek | Approximately 544 feet upstream from the confluence with Davis Creek | None | +550 | Unincorporated Areas of Nelson County.
| Approximately 160 feet downstream from Anderson Lane | None | +689
Rockfish River | Approximately 400 feet downstream from the confluence with Ivy Creek | None | +399 | Unincorporated Areas of Nelson County.
| Approximately 2,200 feet downstream from Laurel Road | None | +458
| Approximately 1,186 feet downstream from Rock Spring Road | None | +477
| Approximately 477 feet downstream from the confluence with South Fork Rockfish River | None | +588
Tye River | At the intersection of Tye Brook Highway | None | +604 | Unincorporated Areas of Nelson County.
| Approximately 2,300 feet downstream from the confluence with Hat Creek | None | +641
| Approximately 1,200 feet upstream from the confluence with Unnamed Tributary No. 6 to Tye River | None | +734
| Approximately 1,941 feet downstream from Carter Hill Road | None | +821
| Approximately 2,100 feet upstream from State Route 682 | None | +892
| Approximately at the confluence with North Fork Tye River | None | +1141
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Nelson County
Maps are available for inspection at 80 Front Street, Lovingston, VA 22949.

(Catalog of Federal Domestic Assistance No. 97.022, “Flood Insurance.”)

Dated: May 8, 2009.
Deborah S. Ingram,
Acting Deputy Assistant Administrator for Mitigation, Mitigation Directorate, Department of Homeland Security, Federal Emergency Management Agency.

[FR Doc. E9-11514 Filed 5-15-09; 8:45 am]

BILLING CODE 9110-12-P